SECURITIES AND EXCHANGE COMMISSION

[File No. 500-1]

Trilliant Exploration Corp.; Order of Suspension of Trading

February 28, 2014.

It appears to the Securities and Exchange Commission that there is a lack of complete and accurate information concerning the securities of Trilliant Exploration Corp. (“Trilliant”) because of questions that have been raised about the accuracy and reliability of publicly available information concerning, among other things, Trilliant's financial condition. Trilliant was a Nevada corporation based in New York, New York, whose corporate status was revoked in January 2013. Its securities are quoted on OTC Link (previously “Pink Sheets”) operated by OTC Markets Group, Inc. under the ticker symbol “TTXP.”

The Commission is of the opinion that the public interest and the protection of investors require a suspension of trading in the securities of the above-listed company.

Therefore, it is ordered, pursuant to Section 12(k) of the Securities Exchange Act of 1934, that trading in the securities of the above-listed company is suspended for the period from 9:30 a.m. EST on February 28, 2014, through 11:59 p.m. EDT on March 13, 2014.

By the Commission.
Jill M. Peterson,
Assistant Secretary.

[FR Doc. 2014-04815 Filed 2-28-14; 11:15 am]

BILLING CODE 8011-01-P